FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than March 16, 2016.

A. Federal Reserve Bank of San Francisco (Gerald C. Tsai, Director, Applications and Enforcement) 101 Market Street, San Francisco, California 94105-1579:

1. Castle Creek Capital Partners IV, LP, and individuals and entities that control Castle Creek Capital IV LLC, Castle Creek Advisors IV LLC; JME Advisory Corp.; Legions IV Corp.; Mikesell Advisory Corp.; Pietrzak Advisory Corp.; John M. Eggemeyer, III; Mark G. Merlo; J. Mikesell Thomas, and John T. Pietrzak, all of Rancho Santa Fe, California; to acquire voting shares of Heritage Commerce Corp, and thereby indirectly acquire voting shares of Heritage Bank of Commerce, both in San Jose, California.

Board of Governors of the Federal Reserve System, February 25, 2016.
Michael J. Lewandowski,
Associate Secretary of the Board.

[FR Doc. 2016-04459 Filed 2-29-16; 8:45 am]

BILLING CODE 6210-01-P